COMMITTEE FOR PURCHASE FROM PEOPLE WHO ARE BLIND OR SEVERELY DISABLED

Procurement List; Proposed Additions and Deletions

AGENCY: Committee for Purchase From People Who Are Blind or Severely Disabled.

ACTION: Proposed Additions to and Deletions From the Procurement List.

SUMMARY: The Committee is proposing to add products to the Procurement List that will be furnished by nonprofit agencies employing persons who are blind or have other severe disabilities, and deletes products and services previously furnished by such agencies.

DATES: Comments must be received on or before: December 16, 2018.

ADDRESSES: Committee for Purchase From People Who Are Blind or Severely Disabled, 1401 S Clark Street, Suite 715, Arlington, Virginia 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the products listed below from nonprofit agencies employing persons who are blind or have other severe disabilities.

The following products are proposed for addition to the Procurement List for production by the nonprofit agencies listed:

Products

NSN(s)—Product Name(s): 8465-00-NIB-0263—Airborne Rucksack, Modular Lightweight Load Carrying Equipment (MOLLE), OCP2015

Mandatory Sources of Supply:

Winston-Salem Industries for the Blind, Inc., Winston-Salem, NC

Peckham Vocational Industries, Inc., Lansing, MI

Mandatory for: 20,000 units annually for the requirement for the U.S. Army

Contracting Activity: DEPT OF THE ARMY, W6QK ACC-APG NATICK

Distribution: C-List

NSN(s)—Product Name(s):

6135-01-616-5152—Battery, Non-Rechargeable, AA, 1.5V, Alkaline, NEDA 15A, PG/8

6135-01-308-5688—Battery, Non-Rechargeable, BR-2/3A, 3V, Lithium, EA/1

6135-01-435-5558—Battery, Non-Rechargeable, Cylindrical, 3.6V, Lithium, EA/1

Mandatory Source of Supply: Eastern Carolina Vocational Center, Inc., Greenville, NC

Mandatory for: Total Government Requirement

Contracting Activity: DEFENSE LOGISTICS AGENCY LAND AND MARITIME

Distribution: A-List

Deletions

The following products and services are proposed for deletion from the Procurement List:

Products

NSN(s)—Product Name(s):

MR 10722—Sticker Book, Halloween, Includes Shipper 20722

MR 378—Christmas Sticker Book

MR 10663—Pouf Balls, Bath, Toddler

MR 833—Onion Saver

Mandatory Source of Supply:

Winston-Salem Industries for the Blind, Inc., Winston-Salem, NC

Contracting Activity:

Defense Commissary Agency

Services

Service Type: Laundry Service

Mandatory for: USDA, National Animal Disease Center: 2300 Dayton Avenue, Ames, IA

Mandatory Source of Supply: Genesis Development, Jefferson, IA

Contracting Activity: ANIMAL AND PLANT HEALTH INSPECTION SERVICE, USDA APHIS MRPBS

Service Type: Janitorial/Custodial Service

Mandatory for:

U.S. Army Reserve Center: 1635 Berks Road, Norristown, PA

U.S. Army Reserve Center: Santa Rosa, CA

Mandatory Source of Supply: The Chimes, Inc., Baltimore, MD

Contracting Activity: DEPT OF THE ARMY, W40M NORTHEREGION CONTRACT OFC

Service Type: Distribution Service

Mandatory for: Department of Transportation: 400 7th Street SW Library and Distribution Services, Washington, DC

Mandatory Source of Supply: ServiceSource, Inc., Oakton, VA

Contracting Activity: Government Printing Office

Michael R. Jurkowski,
Business Management Specialist, Business Operations.

[FR Doc. 2018-25067 Filed 11-15-18; 8:45 am]

BILLING CODE 6353-01-P